DEPARTMENT OF VETERANS AFFAIRS

[OMB Control No. 2900-New (21-4138CF)]

Agency Information Collection: Emergency Submission for OMB (FVEC) Review; Comment Request

AGENCY: Veterans Benefits Administration, Department of Veterans Affairs.

ACTION: Notice.

SUMMARY: In compliance with the Paperwork Reduction Act (PRA) of 1995 (44 U.S.C. 3501-3521), this notice announces that the United States Department of Veterans Affairs (VA), has submitted to the Office of Management and Budget (OMB) the following emergency proposal for the collection of information under the provisions of the Paperwork Reduction Act (44 U.S.C. 3507(j)(1)). The reason for the emergency clearance is to collect information from honorably discharged Filipino veterans' of WWII who served in the Armed Forces of the United States and who may be eligible to receive a one-time payment from Filipino Veterans Equity Compensation Fund (FVEC), which is a part of the President's Stimulus Package. OMB has been requested to act on this emergency clearance request by March 13, 2009.

DATES: Comments must be submitted on or before March 9, 2009.

ADDRESSES: Submit written comments on the collection of information through http://www.Regulations.gov or to VA's OMB Desk Officer, OMB Human Resources and Housing Branch, New Executive Office Building, Room 10235, Washington, DC 20503 (202) 395-7316. Please refer to “OMB Control No. 2900-New (21-4138CF)” in any correspondence

FOR FURTHER INFORMATION CONTACT: Denise McLamb, Enterprise Records Service (005R1B), Department of Veterans Affairs, 810 Vermont Avenue, NW., Washington, DC 20420, (202) 461-7485, FAX (202) 273-0443 or e-mail denise.mclamb@.va.gov. Please refer to “OMB Control No. 2900-New (21-4138CF).”

SUPPLEMENTARY INFORMATION: Title: Statement in Support of Claim (Filipino Veterans Equity Compensation Fund), VA Form 21-4138(CF).

OMB Control Number: 2900-New (21-4138CF).

Type of Review: New collection.

Abstract: Veterans who served in the organized military forces of the Government of the Commonwealth of the Philippines, including certain service in the Philippine Scouts or in organized guerrilla forces recognized by the United States Army, while such forces were in the service of the Armed Forces of the United States, are entitled to a one time payment from the Filipino Veterans Equity Compensation Fund. The veteran must be honorably discharged and served before July 1, 1946 to receive the one-time payment. Applicants seeking this one-time payment must complete VA Form 21-4138(CF) to determine eligibility and file their claim on or before February 16, 2010.

Affected Public: Individuals or households.

Estimated Annual Burden: 1,500 hours.

Estimated Average Burden Per Respondent: 5 minutes.

Frequency of Response: One time.

Estimated Number of Respondents: 18,000.

Dated: February 24, 2009.
By direction of the Secretary.
Denise McLamb,
Program Analyst, Enterprise Records Service.

[FR Doc. E9-4306 Filed 2-27-09; 8:45 am]

BILLING CODE 8320-01-P